DEPARTMENT OF DEFENSE

Department of the Army

Record of Decision for the Fort Campbell Training Mission and Mission Support Activities Programmatic Environmental Impact Statement, Fort Campbell, KY

AGENCY: Department of the Army, DoD.

ACTION: Notice of availability.

SUMMARY: The Department of the Army and Fort Campbell announce the decision to conduct proposed training mission and mission support activities at Fort Campbell, KY. The action was the preferred alternative identified in the Final Programmatic Environmental Impact Statement (PEIS) for Training, Mission and Mission Support Activities at Fort Campbell. The Record of Decision (ROD) explains the potential environmental and socioeconomic impacts associated with the selected action, which includes implementing site-specific projects in support of Soldier training, using Adaptable Use Zones for future facility siting, streamlining review of routine range and training land actions, and pursuing reactivation of the airspace previously designated as the R3703 A, B, and C restricted airspace. The selected alternative best meets the Army's need to build, update, and operate military training ranges and other facilities on Fort Campbell to ensure that its Soldiers are proficiently trained across the full spectrum of military operations. As part of the implementation of this decision, the Army will take practical measures to mitigate impacts to protect and sustain the environment.

ADDRESSES: The ROD can be accessed and downloaded from http://www.campbell.army.mil/Installation/Environmental_Handbook/Pages/default.aspx. Written requests to obtain a copy of the ROD may be sent by email to Mr. Gene Zirkle, gene.a.zirkle.civ@mail.mil, or by postal service to the Fort Campbell NEPA/Wildlife Program Manager, Environmental Division, Building 2159 13th Street, Fort Campbell, KY 42223.

FOR FURTHER INFORMATION CONTACT: Please contact Mr. Gene Zirkle, NEPA/Wildlife Program Manager, Environmental Division, 270-798-9854, during normal working business hours Monday through Friday, 7:30 a.m. to 4:00 p.m. CST; or by email to gene.a.zirkle.civ@mail.mil.

SUPPLEMENTARY INFORMATION: Fort Campbell covers 105,068 acres in Kentucky and Tennessee. Fort Campbell is home to the 101st Airborne Division (Air Assault), the 5th Special Forces Group, 160th Special Operations Aviation Regiment, and other tenant units. The mission of Fort Campbell is primarily to support and train the units stationed on the installation in preparation for a variety of assigned combat and combat related missions. Fort Campbell is committed to providing Soldiers with a high quality training environment. The selected alternative allows the Army to take the necessary actions to support high quality training at an environmentally sustainable Fort Campbell, including range construction, modernization, and maintenance; land management activities; and reactivation of restricted airspace. The selected alternative best meets the Army's need to build, update, and operate military training ranges and other facilities on Fort Campbell to ensure that its Soldiers are proficiently trained across the full spectrum of military operations.

The selected alternative includes continuing existing military training on Fort Campbell, constructing and operating site-specific projects in support of Soldier training, creating adaptable use zones to facilitate future modernization and range facility construction, implementing routine range and training land actions and environmental stewardship practices, and pursuing reactivation of the airspace previously designated as the R3703 A, B, and C restricted airspace. The ROD incorporates analysis contained in the Final PEIS for Fort Campbell including comments provided during formal comment and review periods. There were no comments received during the waiting period, a period that was initiated when the Notice of Availability for the Final PEIS was published in the Federal Register on May 13, 2016 (81 FR 29849).

Implementing this decision is not expected to result in significant impacts; however, moderate adverse impacts could occur to soils, biological resources, and water resources, including potential impacts to the Northern Long Eared Bat. To minimize the potential adverse impacts, the Army will mitigate these effects through a variety of strategies as described in the ROD.

Brenda S. Bowen,
Army Federal Register Liaison Officer.

[FR Doc. 2017-01852 Filed 1-26-17; 8:45 am]

BILLING CODE 5001-03-P